DEPARTMENT OF HOMELAND SECURITY

Coast Guard

33 CFR Part 165

[CGD13-03-013]

RIN 1625-AA00

Safety Zone; Fireworks Display in the Captain of the Port Portland Zone, Colombia River, Astoria, OR

AGENCY: Coast Guard, DHS.

ACTION: Notice of implementation of regulation.

SUMMARY: The Captain of the Port Portland will begin enforcing the safety zone for the Astoria Regatta Fireworks Display established by 33 CFR 165.1316 on July 17, 2003. The Captain of the Port, Portland, Oregon, is taking this action to safeguard watercraft and their occupants from safety hazards associated with the fireworks display. Entry into this safety zone is prohibited unless authorized by the Captain of the Port.

DATES: 33 CFR 165.1316 will be enforced August 9, 2003 from 9:30 p.m. until 10:30 p.m. (PDT).

FOR FURTHER INFORMATION CONTACT: Captain of the Port Portland, 6767 N. Basin Ave., Portland, OR 97217 at (503) 240-9370 to obtain information concerning enforcement of this rule.

SUPPLEMENTARY INFORMATION: On July 17, 2003, the Coast Guard published a final rule (68 FR 42289) establishing a safety zone, in 33 CFR 165.1316, to provide for the safety of vessels in the vicinity of the Astoria Regatta fireworks display. The safety zone will include all waters of the Columbia River at Astoria, Oregon enclosed by the following points: North from the Oregon shoreline at 123°49′36″ West to 46°11′51″ North thence east to 123°48′53″ West thence south to the Oregon shoreline and finally westerly along the Oregon shoreline to the point of origin. Entry into this zone is prohibited unless authorized by the Captain of the Port or his designee. The Captain of the Port Portland will enforce this safety zone on August 9, 2003 from 9:30 p.m. until 10:30 p.m. (PDT). The Captain of the Port may be assisted by other Federal, state, or local agencies in enforcing this security zone.

Dated: July 9, 2003.
Paul D. Jewell,
Captain, Coast Guard, Captain of the Port, Portland.

[FR Doc. 03-18918 Filed 7-24-03; 8:45 am]

BILLING CODE 4910-15-P